DEPARTMENT OF THE INTERIOR

Office of Hearings and Appeals

[17XD0120OS.DX68201.QAGENLAM.DOTN00000.000000.DS68241000]

Tribal Listening Session; Oklahoma City Probate Hearings Division Field Office

In notice document 2017-11186, beginning on page 24990 in the issue of Wednesday, May 31, 2017, make the following corrections:

1. On page 24990, lines three and four in the SUMMARY section: “Probate Hearings Division (Ph.D.)” should read “Probate Hearings Division (PHD)”.

2. On page 24990, line six in the SUMMARY section: “Ph.D.” should read “PHD”.

3. On page 24990, line seven in column two: “Ph.D.” should read “PHD”.

4. On page 24990, line three in the ADDRESSES section: “email—Ph.D@oha.doi.gov” should read “email—phd@oha.doi.gov”.

5. On page 24991, lines two and three in the first column, “email—Ph.D@oha.doi.gov” should read “email—phd@oha.doi.gov”.

6. On page 24991, line fifty-seven in the first column, “Ph.D.” should read “PHD”.

7. On page 24991, line nineteen in the second column, “Ph.D.” should read “PHD”.

[FR Doc. C1-2017-11186 Filed 6-1-17; 8:45 am]

BILLING CODE 1301-00-D